SECURITIES AND EXCHANGE COMMISSION

[OMB Control No. 3235-XXXX]

Agency Information Collection Activities; Proposed Collection; Comment Request; Request for a New OMB Control Number: Cost of AML/CFT Compliance Survey

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“SEC” or “Commission”) is soliciting comments on the proposed collection of information. The collection of information is in the form of a survey and will seek information on Bank Secrecy Act (“BSA”) ¹ Anti-Money Laundering (“AML”)/Countering the Financing of Terrorism (“CFT”) compliance costs and related topics. The collection of information is voluntary. The purpose of the collection of information is to better understand the cost of AML/CFT compliance for entities registered with the Commission that have AML/CFT obligations under the BSA. The information collected will help assess the cumulative impact of BSA AML/CFT regulations and may inform efforts to adjust regulatory obligations and advance deregulatory proposals consistent with the executive orders of the Trump administration. The data may also support the development of deregulatory rulemakings or guidance to reduce compliance burden without compromising the effectiveness of current AML/CFT frameworks. Subject to the provisions of the Freedom of Information Act, 5 U.S.C. 552, and the Commission's rules thereunder (17 CFR 200.80(b)(4)(iii)), the Commission will not generally publish or make available information contained in any reports, summaries, analyses, letters, or memoranda arising out of this collection. As such, individual responses to the survey will not be made publicly available and will not be used for examination or enforcement purposes.

¹ 31 U.S.C. 5311 et seq.

There are approximately 3,289 registered broker-dealers and 1,355 registered mutual funds. The staff estimates that the average amount of time necessary to complete the survey will be eight hours. Each respondent choosing to respond would only need to complete the survey once. The total burden, if all respondents reply, would therefore be 37,152 hours.

Interested members of the public may view the proposed survey on at the following web page: https://www.sec.gov/files/sec-bsa-aml-cft-burden-survey.pdf.

An agency may not conduct or sponsor, and a person is not required to respond to, a collection of information unless it displays a currently valid OMB Control Number.

Written comments are invited on: (a) whether this proposed collection of information is necessary for the proper performance of the functions of the SEC, including whether the information will have practical utility; (b) the accuracy of the SEC's estimate of the burden imposed by the proposed collection of information, including the validity of the methodology and the assumptions used; (c) ways to enhance the quality, utility, and clarity of the information to be collected; and (d) ways to minimize the burden of the collection of information on respondents, including through the use of automated, electronic collection techniques or other forms of information technology.

Please direct your written comments on this 60-Day Collection Notice to Austin Gerig, Director/Chief Data Officer, Securities and Exchange Commission, c/o Tanya Ruttenberg via email to PaperworkReductionAct@sec.gov by January 20, 2026. There will be a second opportunity to comment on this SEC request following the Federal Register publishing a 30-Day Submission Notice.

Dated: November 18, 2025.
Sherry R. Haywood,
Assistant Secretary.

[FR Doc. 2025-20493 Filed 11-20-25; 8:45 am]

BILLING CODE 8011-01-P